DEPARTMENT OF TRANSPORTATION

Federal Aviation Administration

Agency Information Collection Activities: Requests for Comments; Clearance of a New Information Collection: FAA Aircraft Noise Complaint and Inquiry System (FAA Noise Portal)

AGENCY: Federal Aviation Administration (FAA), DOT.

ACTION: Notice and request for comments.

SUMMARY: In accordance with the Paperwork Reduction Act of 1995, FAA invites public comments about our intention to request the Office of Management and Budget (OMB) approval for a voluntary information collection. The collection is part of FAA's goal to more effectively and efficiently address noise complaints or inquiries it receives. The collection includes information such as name, email address, street or cross street, city, state, zip code and a description of the aircraft noise complaint or inquiry. The level of information to be collected is necessary to allow FAA to respond to the noise complaint or inquiry. Currently, the FAA receives noise complaints or inquiries in many formats sent to many different people in the agency. This collection will provide clear points of entry at the FAA regional and headquarters level for the public to submit noise complaints or inquiries using a web based system with consistent collection fields that will populate a national database.

DATES: Written comments should be submitted by January 2, 2018.

ADDRESSES: Send comments to the FAA at the following address: Barbara Hall, Federal Aviation Administration, ASP-110, 10101 Hillwood Parkway, Fort Worth, TX 76177.

Public Comments Invited: You are asked to comment on any aspect of this information collection, including (a) whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Barbara Hall by email at: Barbara.L.Hall@faa.gov; phone: 940-594-5913.

SUPPLEMENTARY INFORMATION:

OMB Control Number: 2120-XXXX.

Title: FAA Aircraft Noise Complaint and Inquiry System (FAA Noise Portal).

Form Numbers: There are no forms.

Type of Review: This is clearance of new information collection.

Background: The purpose of the FAA Noise Portal is to allow the FAA to more efficiently and effectively respond to and address noise complaints or inquiries in a clear, consistent and repeatable manner that is responsive to the public and applies the best use of FAA resources. Currently, there is no clear FAA process or point of entry for the public to submit noise complaints/inquiries. As a result, the public noise complaints are forwarded within the FAA until the appropriate person or organization responds to it. This creates a delay in FAA responses to the public.

A public link to the FAA Noise Portal collection will be posted on each of the nine FAA regional Web sites and the FAA Headquarters Noise Ombudsman Web site for members of the public who want to submit an aircraft related noise complaint or inquiry to the FAA. The FAA Noise Portal includes required and optional fields for the public to complete. Once completed, the information is automatically sent to the FAA Regional Administrators Office or Noise Ombudsman who in turn assigns it to the appropriate FAA office to respond to the complaint within a specified time frame. All incoming complaints/inquiries are automatically entered into an FAA database that can be tracked to ensure timely responses and queried for informational purposes.

The Web sites will also identify and provide links to other entities responsible for addressing aircraft noise related issues (e.g., airports, military, helicopters) and will contain links to pertinent aircraft noise related policy, environmental or community involvement documents. In addition, the Web sites will contain a mailing address and phone number for those members of the public who wish to mail a postal letter or use a voice prompt and recording system option to complete the required fields included in the FAA Noise Portal.

Respondents: Generally, any member of the public in the United States with a valid email address who believes the FAA is the appropriate entity to answer their aircraft noise complaint or inquiry.

Frequency: Members of the public are not limited to the number of times they can submit a complaint/inquiry to the FAA.

Estimated Average Burden per Response: Fifteen minutes to enter the complaint or inquiry into the FAA Noise Portal fields.

Estimated Total Annual Burden: 11,250 hours.

Issued in Washington, DC, on October 26, 2017.
Barbara L. Hall,
Paperwork Reduction Act Compliance Lead, Performance, Policy, and Records Management Branch, ASP-110.

[FR Doc. 2017-23890 Filed 11-1-17; 8:45 am]

BILLING CODE 4910-13-P